DEPARTMENT OF ENERGY

Federal Energy Regulatory Commission

[Docket No. RP00-521-000]

Kinder Morgan Interstate Gas Transmission LLC; Notice of Tariff Filing

September 6, 2000

Take notice that on August 31, 2000, Kinder Morgan Interstate Gas Transmission LLC, (KMIGT) tendered for filing as part of its FERC Gas Tariff, Second Revised Volume Nos. 1-C and 1-D, the following tariff sheets, to become effective October 1, 2000:

Second Revised Volume 1-C

1st Rev. Original Sheet No. 0

Second Revised Volume 1-D

1st Rev. Original Sheet No. 0

KMIGT is making this filing to cancel all of its tariff sheets included in Volume Nos. 1-C and 1-D of its FERC Gas Tariff as result of the sale of KMIGT's Buffalo Wallow assets to OkTex Pipeline Company, an interstate pipeline.

Any person desiring to be heard or to protest said filing should file a motion to intervene or a protest with the Federal Energy Regulatory Commission, 888 First Street NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23303 Filed 9-11-00; 8:45 am]

BILLING CODE 6717-01-M